DEPARTMENT OF HEALTH AND HUMAN SERVICES

Centers for Disease Control and Prevention

Board of Scientific Counselors, National Institute for Occupational Safety and Health: Meeting

In accordance with section 10(a)(2) of the Federal Advisory Committee Act (Pub. L. 92-463), the Centers for Disease Control and Prevention (CDC) announces the following committee meeting:

Name: Board of Scientific Counselors, National Institute for Occupational Safety and Health (BSC, NIOSH).

Time and Date: 9 a.m.-3:30 p.m., April 17, 2001.

Place: The Washington Court, 525 New Jersey Avenue, NW., Washington, DC 20001-1527.

Status: Open to the public, limited only by the space available. The meeting room accommodates approximately 50 people.

Purpose: The BSC, NIOSH is charged with providing advice to the Director, NIOSH on NIOSH research programs. Specifically, the Board shall provide guidance on the Institute's research activities related to developing and evaluating hypotheses, systematically documenting findings, and disseminating results.

Matters To Be Discussed: Agenda items include a report from the Acting Director of NIOSH; Response to the IOM Report on Safe Work in the 21st Century; Report on Workplace Violence Intervention Research Workshop; Update on NIOSH Health Care Worker Activities; Interim Report of BSC Beryllium Subcommittee; NIOSH Communications Activities; NIOSH Activities in the Maritime Industry; and future activities of the Board.

Agenda items are subject to change as priorities dictate.

Contact Person for More Information: Kathleen Rest, Ph.D., Executive Secretary, BSC, NIOSH, Centers for Disease Control and Prevention, 200 Independence Avenue, SW., Room 715H, Washington, DC 20201, telephone: 202/4501-0721, fax: 202/260-4464, e-mail: krx9@cdc.gov.

The Director, Management Analysis and Services Office has been delegated the authority to sign Federal Register notices pertaining to announcements of meetings and other committee management activities, for both the Centers for Disease Control and Prevention and the Agency for Toxic Substances and Disease Registry.

Dated: March 21, 2001.
John Burckhardt,
Acting Director, Management Analysis and Services Office, Centers for Disease Control and Prevention.

[FR Doc. 01-7495 Filed 3-26-01; 8:45 am]

BILLING CODE 4163-19-P